FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License number: 004586F.

Name: All Continental Group, Inc.

Address: 924 E Main Street, Suite 106, Alhambra, CA 91801.

Date revoked: February 24, 2005.

Reason: Failed to maintain a valid bond.

License number: 017226F.

Name: All Dimensions, Inc.

Address: P.O. Box 536, Newburg, IN 47629.

Date revoked: February 4, 2005.

Reason: Failed to maintain a valid bond.

License number: 019012NF.

Name: CTC Distributing, Ltd.

Address: 615 Blaze Blvd., Edinburg, TX 78539.

Date revoked: February 3, 2005.

Reason: Surrendered license voluntarily.

License number: 017371NF.

Name: Cargo Transport FLA, Inc. dba Marazul Shipping.

Address: 3200 NW. 112th Avenue, Miami, FL 33172.

Date revoked: January 3, 2005.

Reason: Surrendered license voluntarily.

License number: 003402F.

Name: Customs Services International, Inc.

Address: 7425 NW. 48th Street, Miami, FL 33166.

Date revoked: March 9, 2005.

Reason: Failed to maintain a valid bond.

License number: 017663N.

Name: Data Cargo Co., Inc. dba Data Cargo International.

Address: 8757 NW. 35th Lane, Miami, FL 33172.

Date revoked: February 12, 2005.

Reason: Failed to maintain a valid bond.

License number: 004385F.

Name: Elliot C. Penalosa dba EP International Shipping.

Address: 5789 Bay Hill Lane, Fontana, CA 92336.

Date revoked: March 17, 2005.

Reason: Failed to maintain a valid bond.

License number: 015829NF.

Name: Fidelity Shipping, Inc.

Address: 12201 Merit Drive, Suite 790, Dallas, TX 75251

Date revoked: March 9, 2005.

Reason: Failed to maintain valid bonds.

License number: 018121NF.

Name: General Logistics, Inc.

Address: 175-01 Rockaway Blvd., Jamaica, NY 11434.

Date revoked: January 31, 2005.

Reason: Surrendered license voluntarily.

License number: 018836F.

Name: Harbor Trading Company.

Address: 4200 Creekside Avenue, Toledo, OH 43612.

Date revoked: March 14, 2005.

Reason: Surrendered license voluntarily.

License number: 018238N.

Name: J.M.P. Shipping, L.L.C.

Address: 10185 Lakeside Drive, Coral Gables, FL 33156.

Date revoked: January 28, 2005.

Reason: Surrendered license voluntarily.

License number: 017025F.

Name: Milton C. Merion, LLC.

Address: 8627 Agusta Street, Philadelphia, PA 19152-1132.

Date revoked: February 2, 2005.

Reason: Surrendered license voluntarily.

License number: 018100F.

Name: Overseas Shipping, Inc.

Address: 7021 Grand National Drive, Suite 110, Orlando, FL 32819.

Date revoked: February 10, 2005.

Reason: Failed to maintain a valid bond.

License number: 018196N.

Name: PMJ International Inc.

Address: 519 Mountainview Drive, North Plainfield, NJ 07063.

Date revoked: March 17, 2005.

Reason: Failed to maintain a valid bond.

License number: 017436N.

Name: Scorpion Express Line Corp.

Address: 4995 NW. 72nd Avenue, Suite 209, Miami, FL 33166.

Date revoked: March 5, 2005.

Reason: Failed to maintain a valid bond.

License number: 016236N.

Name: Target Shipping Co., Inc.

Address: 123 North Union Avenue, Suite 101, Cranford, NJ 07016.

Date revoked: March 5, 2005.

Reason: Failed to maintain a valid bond.

License number: 003501F.

Name: Transpo Service, Ltd.

Address: P.O. Box 152, Grandview, MO 64030-1182.

Date revoked: January 26, 2005.

Reason: Surrendered license voluntarily.

License number: 018638NF.

Name: World Wide Relocation, Inc.

Address: 2550 Northwest Parkway, Elgin, IL 60123.

Date revoked: February 23, 2005.

Reason: Failed to maintain valid bonds.

Sandra L. Kusumoto,
Director, Bureau of Certification and Licensing.

[FR Doc. 05-6274 Filed 3-29-05; 8:45 am]

BILLING CODE 6730-01-P